DEPARTMENT OF ENERGY

Federal Energy Regulatory Commission

[Docket No. RP00-385-000]

Garden Banks Gas Pipeline, LLC; Notice of Proposed Changes in FERC Gas Tariff

July 28, 2000.

Take notice that on July 12, 2000, Garden Banks Gas Pipeline, LLC (Garden Banks) tendered for filing as part of its FERC Gas Tariff, Original Volume No. 1, the following revised tariff sheets with a proposed effective date of August 15, 2000:

Third Revised Sheet No. 6

Second Revised Sheet No. 99

Fourth Revised Sheet No. 100

First Revised Sheet No. 103

Original Sheet No. 121C

On February 9 and May 19, 2000, the Federal Energy Regulatory Commission (Commission) issued Order Nos. 637 and 637-A, respectively, which, among other things, directed pipelines to file revised tariff sheets to remove the price cap for short-term capacity releases for a 2½ year period and to modify any “Right of First Refusal” provisions to comply with the Commission's new policy determinations. Garden Banks states that it is filing revised tariff sheets to comply with these directives.

Any person desiring to be heard or to protest said filing should file a motion to intervene or a protest with the Federal Energy Regulatory Commission, 888 First Street, NE., Washington, DC 20426, in accordance with sections 385.214 or 385.211 of the Commission's rules and regulations. All such motions or protests must be filed in accordance with Section 154.210 of the Commission's regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-18508 Filed 7-20-00; 8:45 am]

BILLING CODE 6717-01-M